Title 3—

The President

Proclamation 10256 of September 13, 2021

National Hispanic-Serving Institutions Week, 2021

By the President of the United States of America

A Proclamation

Today, more than a quarter of American schoolchildren are Hispanic—and the proportion of Hispanic Americans in our workforce is projected to grow substantially over the next 10 years. The educational success of Hispanic Americans is vital to the future of our entire country; how we as a Nation nurture that success will define our strength and stability, our shared prosperity, and our competitiveness on the world stage for generations to come.

For decades, Hispanic-Serving Institutions (HSIs) have played a key role in preparing Hispanic American scholars, artists, researchers, scientists, educators, and other leaders who make our communities and our Nation stronger, more resilient, and more equitable. HSIs advance the foundational American ideals of equity and justice by preparing graduates to contribute their God-given talents and help solve some of the greatest challenges facing our Nation and our world.

To do this, HSIs are on the cutting edge, equipping students with the knowledge and skills they need to compete in the 21st century economy and carve out their place in the middle class. In industry after industry, HSIs empower the next generation of Hispanic American leaders—while also celebrating and nourishing the diverse linguistic and cultural backgrounds that make up the broader Hispanic community.

This work is essential to both the character and the economy of our Nation. Over the last 18 months, Hispanic Americans in every community have helped carry us through the COVID-19 pandemic and spark an historic economic recovery—as doctors and nurses, teachers and first responders, essential workers who keep our country going, and in countless other roles. Hispanic Americans are core to our national fabric, and HSIs are a critical resource in empowering and enriching Hispanic students and our Nation.

Beyond academic and professional preparation, HSIs also positively impact their communities. I am especially grateful for the leadership of HSIs in safeguarding the rights and dignity of Dreamers and first-generation college students across our Nation. It is my fervent hope that the Congress will provide security to all Dreamers. These young people represent America's strength—and our greatest aspirations. We cannot let them down.

Since I took office, my Administration has worked to support the health, education, equity, and economic well-being of Hispanic Americans. In my first week as President, I signed an Executive Order establishing a whole-of-government approach to advancing equity and racial justice. Additionally, my Administration moved swiftly to provide COVID relief to HSIs, families, and small businesses through the American Rescue Plan—a law which on its own is projected to cut Hispanic poverty in America this year by 43 percent. We have also reestablished the White House Initiative on Advancing Educational Equity, Excellence, and Economic Opportunity for Hispanics. We still have a lot of work ahead of us, but I am proud of the historic investments that my Administration has made to lift up Hispanic Americans—and we will continue to fight for the rights, dignity, and success of Hispanic Americans every day.

NOW, THEREFORE, I, JOSEPH R. BIDEN JR., President of the United States of America, by virtue of the authority vested in me by the Constitution and the laws of the United States, do hereby proclaim September 12 through September 18, 2021, as National Hispanic-Serving Institutions Week. I call on public officials, educators, and all the people of the United States to observe this week with appropriate programs, ceremonies, and activities that acknowledge the many ways these institutions and their graduates contribute to our country.

IN WITNESS WHEREOF, I have hereunto set my hand this thirteenth day of September, in the year of our Lord two thousand twenty-one, and of the Independence of the United States of America the two hundred and forty-sixth.

[FR Doc. 2021-20163

Filed 9-15-21; 8:45 am]

Billing code 3295-F1-P